NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 26, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-009

1. Applicant

Harry R. Anderson, PHYWAVE, 250 Eagle Place NE, Bainbridge Island, WA 98110.

Activity for Which Permit Is Requested

Waste Management. The applicant seeks an Antarctic Conservation Act permit for waste management activities associated with the operation of a yacht, to conduct shore excursions, and the operation of a remotely piloted aircraft system (RPAS) in the Antarctic Peninsula region. The RPAS would consist of a quadcopter equipped with a camera to obtain footage of the vessel at anchor. The RPAS would only be operated by a FAA-licensed pilot. Several measures would be taken to prevent loss of the RPAS including floatation devices, flying in fair weather, and the use of return-to-home safety features. Flights would not occur in the vicinity of wildlife.

Location

Antarctic Peninsula region.

Dates of Permitted Activities

January 1, 2023-March 31, 2023.

Permit Application: 2023-011

2. Applicant

Bill Davis, Vice President, Expeditions Operations and Development, Silversea Cruises, Ltd., Miami, FL 33132.

Activity for Which Permit Is Requested

Waste Management. The applicant seeks an Antarctic Conservation Act permit for waste management activities associated with the operation of a remotely piloted aircraft system (RPAS) and a remotely operated vehicle (ROV) in the Antarctic Peninsula Region. The applicant proposes to operate small, battery-operated RPAS consisting, in part, of a quadcopter equipped with cameras to collect commercial footage of the Antarctic. The quadcopter would not be flown over concentrations of birds or mammals, or over Antarctic Specially Protected Areas or Historic Sites and Monuments. The RPAS would only be operated by pilots with extensive experience, who are pre-approved by the Expedition Leader. Several measures would be taken to prevent against loss of the quadcopter including painting the them a highly visible color; only flying when the wind is less than 25 knots; flying for only 15 minutes at a time to preserve battery life; having prop guards on propeller tips, a flotation device if operated over water, and an “auto go home” feature in case of loss of control link or low battery; having an observer on the lookout for wildlife, people, and other hazards; and ensuring that the separation between the operator and quadcopter does not exceed an operational range of 500 meters. The applicant also proposes to operate small, tethered ROVs equipped with cameras to collect educational footage of underwater environments. The ROV power is fed through the tether and contains a 1.5 liter oil filled compensator. The ROV would not be deployed under fast ice. The ROV would only be operator by a trained ROV pilot. ROVs would operate up to around 100m depth, and no more than 100m laterally from the ship. The ROV would not be operated within any protected areas or historic sites and monuments (HSMs).

Location

Antarctic Peninsula region.

Dates of Permitted Activities

November 7, 2022-March 30, 2027.

Permit Application: 2023-015

3. Applicant

Haley Shephard, Vice President of Expedition Operations, Polar Latitudes, Inc. White River Junction, VT 05001

Activity for Which Permit Is Requested

Waste Management. The applicant seeks an Antarctic Conservation Act permit for waste management activities associated with coastal camping and the operation of a remotely piloted aircraft system (RPAS) in the Antarctic Peninsula region. The applicant seeks permission for no more than 50 campers and 6 expedition staff to camp overnight at select locations for a maximum of 10 hours ashore. Camping would be away from vegetated sites and at least 150m from wildlife concentrations or lakes, protected areas, historical sites, and scientific stations. Tents would be pitched on snow, ice, or bare smooth rock, at least 15m from the high-water line. No food, other than emergency rations, would be brought onshore and all wastes, including human waste, would be collected and returned to the ship for proper disposal. For remotely piloted aircraft systems (RPAS) operation, the applicant proposes to operate small, battery-operated RPAS consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader. Several measures would be taken to prevent against loss of the quadcopter including painting the them a highly visible color; only flying when the wind is less than 25 knots; flying for only 15 minutes at a time to preserve battery life, a flotation device if operated over water, and an “auto go home” feature in case of loss of control link or low battery; having an observer on the lookout for wildlife, people, and other hazards; and ensuring that the separation between the operator and quadcopter does not exceed an operational range of 500 meters.

Location

Camping: possible locations include Damoy Point/Dorian Bay, Danco Island, Rongé Island, the Errera Channel, Paradise Bay (including Almirante Brown/Base Brown or Skontorp Cove), the Argentine Islands, Andvord Bay, Pleneau Island, Hovgaard Island, Orne Harbour, Leith Cove, Prospect Point and Portal Point. RPAS operations: Western Antarctic Peninsula region.

Dates of Permitted Activities

October 30, 2022-March 30, 2027.

Erika N. Davis,
Program Specialist, Office of Polar Programs.

[FR Doc. 2022-20757 Filed 9-23-22; 8:45 am]

BILLING CODE 7555-01-P